COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from Procurement List.

SUMMARY: The Committee is proposing to add to the Procurement List a service to be furnished by nonprofit agencies employing persons who are blind or have other severe disabilities, and to delete products and services previously furnished by such agencies.

Comments Must Be Received On Or Before: January 7, 2007.

ADDRESSES: Committee for Purchase From People Who Are Blind or Severely Disabled, Jefferson Plaza 2, Suite 10800, 1421 Jefferson Davis Highway, Arlington, Virginia 22202-3259.

For Further Information Or To Submit Comments Contact: Sheryl D. Kennerly, Telephone: (703) 603-7740, Fax: (703) 603-0655, or e-mail CMTEFedReg@jwod.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following service is proposed for addition to Procurement List for production by the nonprofit agencies listed:

Services

Service Type/Location: Custodial Services/Juneau Ranger Station, Juneau Ranger Station, Admiralty Nat'l Monument, Mendenhall Glacier Visitor Ctr, 8465 Old Dairy Road, Juneau, AK.

NPA: REACH, Inc., Juneau, AK.

Contracting Activity: USDA, Forest Service, Region 10, Juneau, AK.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

End of Certification

The following products and services are proposed for deletion from the Procurement List:

Products

Refill, Ballpoint Pen

NSN: 7510-00-754-2689—Refill, Ballpoint Pen.

NSN: 7510-00-543-6793—Refill, Ballpoint Pen.

NPA: Industries for the Blind, Inc., West Allis, WI.

Contracting Activity: Office Supplies & Paper Products Acquisition Ctr, New York, NY.

Services

Service Type/Location: Custodial Services, USDA, Animal and Plant Health Inspection Service, (6901 West Sunrise Blvd), Plantation, FL.

NPA: Abilities, Inc. of Florida, Clearwater, FL.

Contracting Activity: USDA, Animal & Plant Health Inspection Service-PFQ, Minneapolis, MN.

Service Type/Location: Grounds Maintenance, Marine Corps Air Station, San Diego, CA.

NPA: The ARC of San Diego, San Diego, CA.

Contracting Activity: Department of the Navy.

Sheryl D. Kennerly,
Director, Information Management.

[FR Doc. E6-20363 Filed 11-30-06; 8:45 am]

BILLING CODE 6353-01-P